Proclamation 10543 of March 31, 2023

National Child Abuse Prevention Month, 2023

By the President of the United States of America

A Proclamation

During National Child Abuse Prevention Month, we want every young person in the United States who has faced the fear and pain of abuse or neglect to know they are not alone. We see you and will always fight to protect your safety and well-being. We reaffirm our commitment to listening to children, standing with brave survivors, and reaching out across our communities to support families and to help others in need.

I was raised to believe that the greatest sin in life is the abuse of power, and the abuse of a woman or child is the worst of all. Yet millions of children of every race, religion, and background face neglect or physical, emotional, or sexual abuse in America every year. It can leave deep, lasting scars, making it harder to learn in school, to form trusting relationships, to build self-esteem, and to escape cycles of abuse long-term. It denies far too many children the promise of America and risks cutting them off from their dreams and undermining their ability to reach their full potential.

We have a moral obligation to protect every child in America and to help survivors heal. That is why, as a United States Senator, I wrote and passed the Violence Against Women Act, to help secure safety and justice for women and children impacted by domestic violence. We have fought ever since to keep building on that law—including with last year's bipartisan reauthorization, which increased support for prevention, trauma-informed services, and training for courts while also expanding recognition of Tribal courts' jurisdiction in cases involving non-Native perpetrators of child abuse. As President, I also signed the American Rescue Plan, investing an additional $350 million to improve State child protective services and community-based child abuse prevention programs. The Department of Justice is providing resources to Children's Advocacy Centers across the country that support child abuse victims by supporting law enforcement efforts to investigate and prosecute child abuse and funding law enforcement task forces to combat online child exploitation. I also signed legislation eliminating the Federal statute of limitations for child sex abuse crimes so justice can still be done even after survivors become adults. And we are helping State and territorial health departments prevent sexual violence and provide trauma-informed training to support recovery among the 1 in 4 girls and 1 in 13 boys who will face sexual abuse before they turn 18.

To support our children, we are continuing our efforts to reduce child poverty across the board, including by fighting to restore the Child Tax Credit, which in 2021 helped slash child poverty to its lowest rate ever. We know that poverty can trigger interventions in which children are sometimes unnecessarily removed from their homes. My new budget requests $10 billion to help keep families safely together and to better fund child abuse prevention and treatment services.

Meanwhile, a dangerous wave of cynical State investigations is targeting families just because they love and support their transgender children. These State campaigns are government overreach at its worst. From the Department of Justice to the Department of Health and Human Services, my Administration will keep working to make sure that politicians do not unlawfully weaponize child protective services against loving families who simply want to support their kids and help them to be themselves.

It has been said that a Nation is judged by how we treat the most vulnerable among us. Nowhere is that truer than when it comes to protecting our children, making sure they grow up safe from harm and surrounded by love. That is on all of us. For more information on how to recognize and report child abuse or neglect, as well as on how to support loving families and safe communities, visit childwelfare.gov.

NOW, THEREFORE, I, JOSEPH R. BIDEN JR., President of the United States of America, by virtue of the authority vested in me by the Constitution and the laws of the United States, do hereby proclaim April 2023 as National Child Abuse Prevention Month. I call upon all Americans to observe this month by joining together as a Nation to promote the safety and well-being of all children and families and to recognize the child-welfare professionals and allies who work tirelessly to protect our children. Let us also honor the strength and resilience of survivors of child abuse.

IN WITNESS WHEREOF, I have hereunto set my hand this thirty-first day of March, in the year of our Lord two thousand twenty-three, and of the Independence of the United States of America the two hundred and forty-seventh.

[FR Doc. 2023-07311

Filed 4-4-23; 11:15 am]

Billing code 3395-F3-P